DEPARTMENT OF EDUCATION

Program of Research on Reading Comprehension

AGENCY: Office of Educational Research and Improvement, Department of Education.

ACTION: Notice of final priority.

SUMMARY: The Assistant Secretary announces a final priority for a Program of Research on Reading Comprehension. The Assistant Secretary may use this priority for competitions in fiscal year (FY) 2002 and in later fiscal years. We take this action to build a scientific foundation for educational practice by supporting rigorous research on reading comprehension. We intend this priority to produce research findings that will change instructional practice and promote academic achievement.

EFFECTIVE DATE: This priority is effective May 10, 2002.

FOR FURTHER INFORMATION CONTACT: Anne P. Sweet or Rita Foy Moss, U.S. Department of Education, 555 New Jersey Avenue, NW., room 513, Washington, DC 20208-5573. Telephone: (202) 219-0610 or FAX: (202) 219-2135.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Background

The Office of Educational Research and Improvement (OERI), authorized under Title IX of Public Law 103-227 (20 U.S.C. 6001 et seq.), supports research and development activities designed to provide essential knowledge for the improvement of education. Although significant advances have been made in knowledge about early reading skills, much less is known about reading comprehension. Reading comprehension is necessary for academic achievement in virtually all school subjects and for economic self-sufficiency in cognitively demanding work environments. Improving reading comprehension, and providing all members of society with equal opportunities to attain a high level of literacy, require a focused program of educational research. Knowledge gained from such educational research can help guide the national investment in education and support local and State reform efforts. Because this targeted program of research focuses on an enduring problem of practice, it will be the primary mechanism for pursuing new knowledge about reading comprehension.

Prior to publishing the notice of proposed priority, OERI reviewed the Report of the National Reading Panel (2000) and the RAND Reading Study Group Report (2001) to identify the most needed reading research and development activities. Following this review, OERI proposed this priority, recognizing that critical frontiers for reading research, such as deriving empirically-grounded theories of comprehension development and reading instruction across the full range of ages and grades, have barely been broached in the research literature. OERI's Program of Research on Reading Comprehension (PRRC) is intended to expand scientific knowledge of how students develop proficient levels of reading comprehension, how reading comprehension can be taught most optimally, and how reading comprehension can be assessed in ways that reflect as well as advance our current understanding of reading comprehension and its development. An overarching goal of the program is to obtain converging empirical evidence on the development and assessment of comprehension that coheres with scientifically supported theories of the processes involved in reading comprehension. A further purpose is to provide a scientific foundation for approaches to comprehension instruction that allow students to achieve proficient levels of comprehension across a range of texts and subjects.

We published a notice of proposed priority for this program in the Federal Register on January 22, 2002 (67 FR 2864). Except for minor revisions, there are no differences between the notice of proposed priority and this notice of final priority.

Analysis of Comments and Changes

In response to our invitation in the notice of proposed priority, three parties submitted written comments. Letters of support for the Secretary's priority or letters of support for existing teaching practices and programs are not included among this count. The Secretary has reviewed the three public comments and believes that the proposed priority as written is broad enough to encompass the specific research topics recommended by the commenters. An analysis of the comments follows. We group major issues according to subject.

Generally, we do not address technical and other minor changes—and suggested changes the law does not authorize us to make under the applicable statutory authority.

Comment Related to Middle and High School

Comment: One commenter argued that, in addition to investigating how to obtain proficiency in reading comprehension, how it can be optimally taught, and how it can be assessed, it is critical to examine where reading comprehension should be taught, who should be teaching it, and to whom it should be taught, especially at the middle and high school levels.

Discussion: The Secretary believes that investigation of these three dimensions—where reading comprehension should be taught, who should be teaching it, and to whom it should be taught at the middle and high school levels—is permitted under the priority as proposed.

Changes: None.

Comment Related to One-to-One Mentoring

Comment: One commenter recommended that additional research be supported that supports the role of one-to-one mentoring using trained community volunteers as an intervention strategy for struggling readers in the area of comprehension.

Discussion: The Secretary believes that such a study is permitted under the priority as proposed (e.g., falling under inquiry area number 2 of the priority).

Changes: None.

Comment Related to Social Studies

Comment: One comment concerned student comprehension of social studies expository text, and indicated that research on the nature of expository text in social studies (and probably in other subjects) should be included in the priority. The same commenter argued that such a research effort would involve expert analysis of currently published expository text.

Discussion: The Secretary believes that studying the effects of features of expository text on the assessment, development, and improvement of reading comprehension is permissible under the proposed priority. In addition, the Secretary maintains that expert analysis of expository text could play a role in the design of a scientific study using approaches described in the proposed priority.

Changes: None.

Note: This notice does not solicit applications. In any year in which we choose to use this priority, we invite applications through a notice in the Federal Register. When inviting applications we designate the priority as absolute, competitive preference, or invitational.

Priority

Program of Research on Reading Comprehension

Under the Program of Research on Reading Comprehension (PRRC), applicants must propose research that is focused on one or more of three areas of inquiry:

1. Developmental patterns of students' reading comprehension;

2. Instructional interventions for reading comprehension; or

3. Measures of reading comprehension that reflect empirically justified dimensions, distinguish reader differences, and are sensitive to instructional goals.

Furthermore, research must be motivated by a specific conceptual framework and relevant prior empirical evidence, both of which must be clearly articulated in the proposal. The research must have the potential to advance fundamental scientific knowledge that bears on the solution of important educational problems. The proposal must indicate method and why the approach taken optimally addresses the research question. Any approach must incorporate a valid inference process that allows generalization beyond the study participants. Proposals must indicate which of the following approaches is to be used:

1. Experiment (control group; randomized assignment—both required).

2. Quasi-experiment (comparison group, stratified random assignment, groups comparable at pretest, statistical adjustment for comparability).

3. Correlational study (simple, multiple/logistic regression, structural equation modeling, hierarchical linear modeling).

4. Other quantitative (e.g., simulation).

5. Descriptive study using qualitative techniques (e.g., ethnographic methods; focus groups; classroom observations; case studies).

The design of studies must be clear: Independent and dependent, or predictor and criterion, variables should be distinguished. Proposed research is expected to employ the most sophisticated level of design and analysis that is appropriate to the research question. For research questions that cannot be answered using a randomized assignment experimental design, the proposal must spell out the reasons why such a design is not applicable and why it would not represent a superior approach. Thus, applicants must propose to conduct rigorous studies that are scientifically sound, relevant, timely, and ultimately useful to practitioners and policy makers.

Post-Award Requirements

The Secretary established the following post-award requirements consistent with the OERI's program regulations at 34 CFR part 700 and the Education Department General Administrative Regulations (EDGAR) at 34 CFR 75.720. Recipients of a research award must:

1. Provide OERI with information about the research project and products and other appropriate research information so that OERI can monitor progress and maintain its inventory of funded research projects. This information must be provided through media that include an electronic network; and

2. At the end of the award period, synthesize the findings and advances in knowledge that resulted from research conducted and describe the potential impact on the improvement of reading comprehension instruction.

Applicable Program Regulations: 34 CFR part 700.

Electronic Access to This Document

You may view this document, as well as all other Department of Education documents published in the Federal Register, in text or Adobe Portable Document Format (PDF) on the Internet at the following site: www.ed.gov/legislation/FedRegister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number (84.305G) Program of Research on Reading Comprehension)

Program Authority: 20 U.S.C. 6031.

Dated: April 4, 2002.
Grover J. Whitehurst,
Assistant Secretary for Educational, Research and Improvement.

[FR Doc. 02-8719 Filed 4-9-02; 8:45 am]

BILLING CODE 4000-01-P